DEPARTMENT OF COMMERCE

National Oceanic and Atmospheric Administration

[RTID 0648-XB835]

Endangered and Threatened Species; Take of Anadromous Fish

AGENCY: National Marine Fisheries Service (NMFS), National Oceanic and Atmospheric Administration (NOAA), Commerce.

ACTION: Notice of availability; of a proposed evaluation for a Tribal Resource Management Plan and request for comment.

SUMMARY: Notice is hereby given that the Northwest Indian Fisheries Commission (NWIFC) has submitted a Tribal Resource Management Plan (Tribal Plan) for NMFS to evaluate. It was presented by the Bureau of Indian Affairs (BIA) on behalf of the Northwest Indian Tribes; the submission fulfills the Tribes' obligations under the protective regulations promulgated for Puget Sound (PS) Chinook salmon, Hood Canal summer-run (HCS) chum salmon, PS steelhead, and Southern (S) eulachon under the Endangered Species Act (ESA). The Tribal Plan describes research and assessment activities that may affect listed PS Chinook salmon, HCS chum salmon, PS steelhead, and S eulachon in Washington State. The proposed research is intended to increase knowledge of species listed under the Endangered Species Act (ESA) and to help guide management and conservation efforts. NMFS has completed a proposed evaluation of how well the Tribal Plan fulfills ESA criteria, and the Secretary of Commerce (Secretary) is making that proposed evaluation available for public comment.

DATES: Comments or requests for a public hearing on the applications must be received no later than 5 p.m. Pacific standard time on May 11, 2022.

ADDRESSES: Because all West Coast NMFS offices are currently closed, all written comments on the document should be sent by email to shivonne.nesbit@noaa.gov (please include the RTID number (XB835) in the subject line of the email). The proposed evaluation available for public comment may be viewed online at: https://www.fisheries.noaa.gov/action/tribal-resource-management-plan-trump-northwest-indian-fisheries-commission.

FOR FURTHER INFORMATION CONTACT: Shivonne Nesbit, Portland, OR (Ph: 503-231-6741, email: shivonne.nesbit@noaa.gov).

SUPPLEMENTARY INFORMATION:

Species Covered in This Notice

The following listed species are covered in this notice:

Chinook salmon (Oncorhynchus tshawytscha): Threatened Puget Sound (PS).

Chum salmon (O. keta): Threatened Hood Canal Summer-run (HCS).

Steelhead (O. mykiss): Threatened PS.

Eulachon (Thaleichthys pacificus): Threatened southern distinct population segment (DPS).

Authority

Under section 4 of the ESA, the Secretary is required to adopt such regulations as he deems necessary and advisable for the conservation of the species listed as threatened. The ESA Tribal 4(d) rule (70 FR 37160; June 28, 2005) states that the ESA section 9 take prohibitions do not apply to Tribal Plans that will not appreciably reduce the likelihood of survival and recovery for the listed species.

The Tribal Plan

The NWIFC—through the BIA and on behalf of the Northwest Indian Tribes—has submitted a Tribal Plan for scientific research and assessment activities within the range of the PS Chinook salmon, HCS chum salmon, PS steelhead, and SDPS eulachon. The Northwest Indian Tribes conduct, independently and in cooperation with other agencies, a variety of research and assessment projects. These projects provide the technical basis for managing fisheries and conserving and restoring salmon stocks and their habitat. The need for an improved understanding of salmonid survival in the freshwater and early marine life stages drives much of the current research. The Tribal Plan includes implementation, monitoring, and evaluation procedures designed to ensure that the research is consistent with the objectives of the ESA. The research activities described in the Tribal Plan would take place over a 5 year period starting in 2022.

As 50 CFR 223.209 requires, the Secretary must determine whether the activities proposed in the Tribal Plan would appreciably reduce the likelihood of survival and recovery for PS Chinook salmon, HCS chum salmon, PS steelhead, and SDPS eulachon. The Secretary must take comments on how NMFS's evaluation of the Tribal Plan fulfills the criteria in 50 CFR 223.209 when making that portion of the determination.

Dated: April 5, 2022.
Angela Somma,
Chief, Endangered Species Division, Office of Protected Resources, National Marine Fisheries Service.

[FR Doc. 2022-07661 Filed 4-8-22; 8:45 am]

BILLING CODE 3510-22-P